DEPARTMENT OF THE INTERIOR

Bureau of Reclamation

[123R5065C6; RX.59589805.1002000; RR85818000]

Agency Information Collection Activities; Proposed Collection; Comment Request

AGENCY: Bureau of Reclamation, Interior.

ACTION: Notice.

SUMMARY: The Bureau of Reclamation intends to seek approval of the following proposed new information collection: Collection and Compilation of Water Pipeline Field Performance Data. Before submitting the information collection request to the Office of Management and Budget for approval, the Bureau of Reclamation is soliticing public comments on this information collection.

DATES: Submit written comments on the information collection on or before April 28, 2014.

ADDRESSES: Send all written comments concerning this notice to Lee Sears, Materials Engineering Research Laboratory, 86-68180, Bureau of Reclamation, P.O. Box 25007, Denver, Colorado, 80225; or via email to lsears@usbr.gov.

FOR FURTHER INFORMATION CONTACT: To request more information on this information collection or to request a copy of the collection instrument, please contact Lee Sears at 303-445-2392.

SUPPLEMENTARY INFORMATION:

I. Abstract

In accordance with the Paperwork Reduction Act of 1995 (44 U.S.C. 3501 et seq.), this notice announces that the Bureau of Reclamation has obtained the services of an outside entity to survey water facilities and collect data on water pipeline corrosion related failures. The information requested is required to comply with a request from Congress for the Bureau of Reclamation to assemble data on pipeline reliability for specific types of pipes.

II. Data

Title: Collection and Compilation of Water Pipeline Field Performance Data.

OMB Control Number: 1006-XXXX.

Description of respondents: Drinking water utility and Federal facility pipe data managers.

Frequency: One-time collection.

Estimated completion time: 3 minutes (making participation decision); 15 minutes (online survey); 2 minutes (online refusal survey); 60 minutes (uploading data); and 2 minutes (data upload refusal survey).

Estimated Total Number of Respondents: 418 (making participation decision); 209 (online survey); 209 (online refusal survey); 68 (uploading data); and 68 (data upload refusal survey).

Estimated Number of Responses per Respondent: 1.

Estimated Total of Annual Responses: 418 (making participation decision); 209 (online survey); 209 (online refusal survey); 68 (uploading data); and 68 (data upload refusal survey).

Estimated Total Annual Burden Hours on Respondents: 21 hours (making participation decision); 53 hours (online survey); 7 hours (online refusal survey); 68 hours (uploading data); and 3 hours (data upload refusal survey), for a combined total of 152 hours.

III. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

We will summarize all comments received regarding this notice. We will publish that summary in the Federal Register when the information collection request is submitted to OMB for review and approval.

IV. Public Disclosure

Before including your address, phone number, email address, or other personal identifying information in your comment, you should be aware that your entire comment—including your personal identifying information—may be made publicly available at any time. While you can ask us in your comment to withhold your personal identifying information from public review, we cannot guarantee that we will be able to do so.

Date: February 20, 2014.
Richard W. LaFond,
Chief, Civil Engineering Services Division, Bureau of Reclamation.

[FR Doc. 2014-04145 Filed 2-25-14; 8:45 am]

BILLING CODE 4310-MN-P